DEPARTMENT OF JUSTICE

Antitrust Division

Notice Pursuant to the National Cooperative Research and Production Act of 1993—International Seafood Sustainability Foundation

Notice is hereby given that, on March 17, 2009, pursuant to Section 6(a) of the National Cooperative Research and Production Act of 1993, 15 U.S.C. 4301 et seq. (“the Act”), International Seafood Sustainability Foundation (“ISSF”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is: International Seafood Sustainability Foundation, McLean, VA. The nature and scope of ISSF's standards development activities are as follows:

ISSF will conduct scientific research to assess, evaluate, and establish science-based conservation measures and standards for sustainability of fish species across the world's oceans, at present focusing on tuna species. Its community membership will include industry, scientists, and non-governmental environmental organizations. ISSF is a nonprofit organization that has applied for tax exemption pursuant to Section 501(c)(3) of the Internal Revenue Code.

International Seafood Sustainability Association (“ISSA”) is a non-exclusive, voluntary trade association formed to fund and establish 15SF. A condition to membership in ISSA is compliance with conservation standards established independently by ISSF. Membership in ISSA therefore indicates that all tuna products purchased, processed, and sold by the member originate from tuna caught in compliance with science-based conservation standards established by ISSF.

The collective activity of both ISSF and ISSA is limited to establishing science-based conservation measures and indicating compliance with those standards. The collective activity will not extend to processing, marketing, or sales of any industry members' products.

For more information concerning the International Seafood Sustainability Foundation and Association, please contact Michael Cohen; Paul, Hastings, Janofsky & Walker LLP; 875 15th Street, NW., Washington, DC 20005.

Patricia A. Brink,
Deputy Director of Operations, Antitrust Division.

[FR Doc. E9-9396 Filed 4-23-09; 8:45 am]

BILLING CODE 4410-11-M